DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held October 19, 2004 starting at 9 a.m.

ADDRESSES: The meeting will be held at RTCA, IN c., 1828 L Street, NW., Suite 805, Washington, DC 20036.

FOR FURTHER INFORMATION CONTACT: RTCA Secretariat, 1828 L Street, NW., Suite 850 Washington, DC 20036; telephone (202) 833-9339; fax (202) 833-9434; Web site http://www.rtca.org.

SUPPLEMENTARY INFORMATION: Pursuant to section 10(a)(2 of the Federal Advisory Committee Act (Pub. L. 92-463, 5 U.S.C., Appendix 2), notice is hereby given for a Program Management Committee meeting. The revised agenda will include:

• October 19:

• Opening session (welcome and introductory remarks, review/approve summary of previous meeting).

• Publication Consideration/Approval:

• Final draft, Civil Operators' Training Guidelines for Integrated Night Vision Imaging System Equipment, RTCA Paper No. 156-04/PMC-334, prepared by SC-196.

• Final draft, Guidance on Allowing Transmitting Portable Electronic Devices (T-PEDs) on Aircraft, RTCA Paper No. 157-04/PMC-345, prepared by SC-202.

• Final draft, Safety Requirements for AOC Datalink Messages, RTCA Paper No. 158-04/PMC-364, prepared by SC-201.

• Discussion:

• Special Committee 203, Unmanned Aircraft.

—Review/status.

• Special Committee 186, Automatic Dependent Surveillance-Broadcast.

—Discuss/approve terms of reference.

• Software Considerations in Aviation Systems-Discussion new Committee Request.

—Review/approve terms of reference/leadership.

• Special Committee Chairman's Report.

• Action Item Review:

• Possible new SC-189 activity-interperability requirements for mixed date communications.

—Review/status.

• Requirements Focus Group (RFG).

• Review/approve revised SC-186 terms of reference.

• 406 MHz Emergency Locator Transmitters (ELTs).

• Review/status.

• Flight Information Services (FIS)/Aeronautical Information Services (AIS) Data Link.

• Review/status.

• Closing session (other business, document production, date and place of next meeting, adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 22, 2004.
Robert Zoldos,
FAA System Engineer, RTCA Advisory Committee.

[FR Doc. 04-22613 Filed 10-7-04; 8:45 am]

BILLING CODE 4910-13-M